DEPARTMENT OF HEALTH AND HUMAN SERVICES

Administration for Children and Families

Office of Community Services; Notice To Award a Single Source Program Expansion Supplement Under the American Recovery and Reinvestment Act (ARRA) to Technical Assistance by Community Action Program Legal Services, Inc.

AGENCY: Office of Community Services, ACF, HHS.

ACTION: Notice to award a Single Source Program Expansion Supplement under the American Recovery and Reinvestment Act (ARRA) to Technical Assistance by Community Action Program Legal Services, Inc.

CFDA#: 93.710.

Legislative Authority: The legislative authority for this award is provided in the American Recovery and Reinvestment Act of 2009 (Pub. L. 111-5). Additional legislative authority and requirements are provided in Section 674(b)(2)(B) of the CSBG Act, as amended, by the Community Opportunity Accountability, and Training and Educational Services (Coats Human Services Reauthorization Act of 1998) (Pub. L. 105-285).

Amount of Supplemental Award: $96,952.

Project Period: September 30, 2006 through September 30, 2009.

SUMMARY: The Office of Community Services (OCS) announces the awarding of a $96,952 single source program expansion supplement to the Community Action Legal Services, Inc. (CAPLAW), located in Boston, MA, to support training and technical assistance on legal issues faced by Community Action Agencies (CAAs) related to the American Recovery and Reinvestment Act of 2009 (ARRA). The project activities are designed to support and strengthen the ability of the CAA network to comply with, and carry out, Community Services Block Grant (CSBG) activities funded by ARRA. The training projects and resources developed under the award will include analysis and explanation of the practical impact of ARRA for States and CSBG-eligible entities so that they can work more effectively to reach the ARRA goals and document how they have in fact reached those goals and used the ARRA funds. The project's overall approach is based on the following five key elements: (1) Technical assistance and issue-specific consultation; (2) Publications, including online postings on the CAPLAW Web site, e-Bulletins, and a print newsletter, which is also available on CAPLAW's Web site; (3) Online toolkit; (4) Presentations at CAA conferences, including CAPLAW's 2009 national training conference, and CAPLAW audio conferences.

The training and technical assistance CAPLAW will provide is particularly critical at this time due to the large temporary increase in funding of CSBG awards to eligible entities and the need for both rapid implementation of these programs and adherence to high standards of accountability and tracking of awards and results.

Contact for Further Information: Danielle Williams, U.S. Department of Health and Human Services, Office of Community Services, Administration for Children and Families, 370 L'Enfant Promenade, SW., Washington, DC 20047.

Telephone: (202) 205-4717. E-mail: Danielle.Williams@acf.hhs.gov.

Dated: July 15, 2009.
Yolanda J. Butler,
Acting Director, Office of Community Services.

[FR Doc. E9-17890 Filed 7-27-09; 8:45 am]

BILLING CODE P